INTERNATIONAL TRADE COMMISSION

[Investigation No. 332-593]

U.S.-Pacific Islands Trade and Investment: Impediments and Opportunities

ACTION: Notice of investigation and scheduling of a public hearing.

SUMMARY: Following receipt on September 29, 2022, of a request from the United States Trade Representative (USTR), under section 332(g) of the Tariff Act of 1930, the U.S. International Trade Commission (Commission) instituted Investigation No. 332-593, U.S.- Pacific Islands Trade and Investment: Impediments and Opportunities. The USTR requested that the Commission conduct an investigation and provide a report that analyzes Pacific Island trade with the United States and identifies impediments to and opportunities for increased trade flows between the United States and the Pacific Islands, and for increased U.S. investment in the Pacific Islands.

DATES:

January 31, 2023: Deadline for filing requests to appear at the public hearing.

February 2, 2023: Deadline for filing prehearing briefs and statements.

February 7, 2023: Deadline for filing electronic copies of oral hearing statements.

February 14, 2023: Public hearing.

February 21, 2023: Deadline for filing post-hearing briefs and statements.

April 17, 2023: Deadline for filing all other written submissions.

September 29, 2023: Transmittal of Commission report to the USTR.

ADDRESSES: All Commission offices, including the Commission's hearing rooms, are located in the U.S. International Trade Commission Building, 500 E Street SW, Washington, DC. All written submissions should be addressed to the Secretary, U.S. International Trade Commission, 500 E Street SW, Washington, DC 20436. The public record for this investigation may be viewed on the Commission's electronic docket (EDIS) at https://edis.usitc.gov.

FOR FURTHER INFORMATION CONTACT: Project Leader Steven LeGrand (steven.legrand@usitc.gov or 202-205-3094) or Deputy Project Leader Robert Ireland (robert.ireland@usitc.gov or 202-708-4101) for information specific to this investigation. For information on the legal aspects of this investigation, contact Brian Allen (brian.allen@usitc.gov or 202-205-3034) or William Gearhart of the Commission's Office of the General Counsel (william.gearhart@usitc.gov or 202-205-3091). The media should contact Jennifer Andberg, Office of External Relations (jennifer.andberg@usitc.gov or 202-205-1819). Hearing-impaired individuals may obtain information on this matter by contacting the Commission's TDD terminal at 202-205-1810. Persons with mobility impairments who will need special assistance in gaining access to the Commission should contact the Office of the Secretary at 202-205-2000. General information concerning the Commission may also be obtained by accessing its website (https://www.usitc.gov).

Background: As requested by the USTR under section 332(g) of the Tariff Act of 1930 (19 U.S.C. 1332(g)), the Commission will include the following in its report:

• An overview of the Pacific Island economies, including major sectors in production, consumption, trade, and employment.

• A description of goods and services exports from the Pacific Islands during the period 2017-21, and identification of major factors that impact those exports to the United States.

• A description of the use of the U.S. General System of Preferences (GSP) program by the Pacific Island countries and identification of the goods from the Pacific Islands that enter the United States under GSP, sectors in which these programs might be underutilized, and factors affecting utilization of GSP.

• A description of foreign investment in the Pacific Islands during the period 2017-21; and identification of major factors affecting investment from the United States.

• Identification of major products (including goods covered by the GSP program) and services in the Pacific Islands with greatest potential for export sales to the United States, sectors with U.S. investment potential, and the factors that impede trade and investment with the United States for these products and sectors using qualitative analysis and, to the extent data are available, quantitative analysis.

• A description of initiatives and/or technical assistance that could address such trade and investment impediments, if found during the Commission's research.

The 22 Pacific Island economies covered in this investigation are Fiji, Kiribati, Nauru, Papua New Guinea, Samoa, Solomon Islands, Tonga, Tuvalu, and Vanuatu (independent countries); Federated States of Micronesia, Palau, and Marshall Islands (Freely Associated States); Guam, Commonwealth of the Northern Mariana Islands, and American Samoa (U.S. territories); and Cook Islands, French Polynesia, New Caledonia, Niue, Pitcairn Islands, Tokelau, and Wallis and Futuna (non-independent countries and territories).

The USTR requested that the Commission transmit its report no later than 12 months following receipt of this request. In its request letter, the USTR stated that it intends to make the Commission's report available to the public in its entirety and asked that the report not include any confidential business information or classified information.

Public Hearing: A public hearing in connection with this investigation will be held in-person beginning at 9:30 a.m. on Tuesday, February 14, 2023, in the Main Hearing Room of the U.S. International Trade Commission, 500 E Street SW, Washington DC 20436. The hearing can also be accessed remotely using the WebEx videoconference platform. A link to the hearing will be posted on the Commission's website at https://www.usitc.gov/calendarpad/calendar.html.

Requests to appear at the public hearing should be filed with the Secretary no later than 5:15 p.m., Tuesday, January 31, 2023, in accordance with the requirements in the “Written Submissions” section below. Any requests to appear as a witness via videoconference must be included with your request to appear. Requests to appear as a witness via videoconference must include a statement explaining why the witness cannot appear in person; the Chairman, or other person designated to conduct the investigation, may at their discretion for good cause shown, grant such requests. Requests to appear as a witness via videoconference due to illness or a positive COVID-19 test result may be submitted by 3pm the business day prior to the hearing.

All prehearing briefs and statements should be filed not later than 5:15 p.m., Thursday, February 2, 2023. To facilitate the hearing, including the preparation of an accurate written transcript of the hearing, oral testimony to be presented at the hearing must be submitted to the Commission electronically no later than noon, February 7, 2023. All post-hearing briefs and statements should be filed no later than 5:15 p.m., Tuesday, February 21, 2023. Post-hearing briefs and statements should address matters raised at the hearing. For a description of the different types of written briefs and statements, see the “Definitions” section below.

In the event that, as of the close of business on January 31, 2023, no witnesses are scheduled to appear at the hearing, the hearing will be canceled. Any person interested in attending the hearing as an observer or nonparticipant should check the Commission website as indicated two paragraphs above for information concerning whether the hearing will be held.

Written Submissions: In lieu of or in addition to participating in the hearing, interested parties are invited to file written submissions concerning this investigation. All written submissions should be addressed to the Secretary and should be received not later than the date specified in this notice. All written submissions must conform to the provisions of section 201.8 of the Commission's Rules of Practice and Procedure (19 CFR 201.8), as temporarily amended by 85 FR 15798 (March 19, 2020). Under that rule waiver, the Office of the Secretary will accept only electronic filings at this time. Filings must be made through the Commission's Electronic Document Information System (EDIS, https://edis.usitc.gov). No in-person paper-based filings or paper copies of any electronic filings will be accepted until further notice. Persons with questions regarding electronic filing should contact the Office of the Secretary, Docket Services Division (202-205-1802), or consult the Commission's Handbook on Filing Procedures.

Definitions of Types of Documents That May Be Filed; Requirements: In addition to requests to appear at the hearing, this notice provides for the possible filing of four types of documents: prehearing briefs, oral hearing statements, post-hearing briefs, and other written submissions.

(1) Prehearing briefs refers to written materials relevant to the investigation and submitted in advance of the hearing, and includes written views on matters that are the subject of the investigation, supporting materials, and any other written materials that you consider will help the Commission in understanding your views. You should file a prehearing brief particularly if you plan to testify at the hearing on behalf of an industry group, company, or other organization, and wish to provide detailed views or information that will support or supplement your testimony.

(2) Oral hearing statements (testimony) refers to the actual oral statement that you intend to present at the public hearing. Do not include any confidential business information in that statement. If you plan to testify, you must file a copy of your oral statement by the date specified in this notice. This statement will allow Commissioners to understand your position in advance of the hearing and will also assist the court reporter in preparing an accurate transcript of the hearing (e.g., names spelled correctly).

(3) Post-hearing briefs refers to submissions filed after the hearing by persons who appeared at the hearing. Such briefs: (a) should be limited to matters that arose during the hearing, (b) should respond to any Commissioner and staff questions addressed to you at the hearing, (c) should clarify, amplify, or correct any statements you made at the hearing, and (d) may, at your option, address or rebut statements made by other participants in the hearing.

(4) Other written submissions refers to any other written submissions that interested persons wish to make, regardless of whether they appeared at the hearing, and may include new information or updates of information previously provided.

There is no standard format that a brief or other written submission must follow. However, each such document must identify on its cover (1) the type of document filed (i.e., prehearing brief, oral statement of (name), post-hearing brief, or written submission), (2) the name of the person or organization filing it, and (3) whether it contains confidential business information (CBI). If it contains CBI, it must comply with the marking and other requirements set out below in this notice relating to CBI. Submitters of written documents (other than oral hearing statements) are encouraged to include a short summary of their position or interest at the beginning of the document, and a table of contents when the document addresses multiple issues.

Confidential Business Information: Any submissions that contain confidential business information must also conform to the requirements of section 201.6 of the Commission's Rules of Practice and Procedure (19 CFR 201.6). Section 201.6 of the rules requires that the cover of the document and the individual pages be clearly marked as to whether they are the “confidential” or “non-confidential” version, and that the confidential business information is clearly identified by means of brackets. All written submissions, except for confidential business information, will be made available for inspection by interested parties.

As requested by the USTR, the Commission will not include any confidential business information in its report. However, all information, including confidential business information, submitted in this investigation may be disclosed to and used: (i) by the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel for cybersecurity purposes. The Commission will not otherwise disclose any confidential business information in a way that would reveal the operations of the firm supplying the information.

Summaries of Written Submissions: Persons wishing to have a summary of their position included in the report that the Commission sends to the USTR should include a summary with their written submission and should mark the summary as having been provided for that purpose. The summary should be clearly marked as “summary for inclusion in the report” at the top of the page. The summary may not exceed 500 words, should be in MS Word format or a format that can be easily converted to MS Word, and should not include any confidential business information. The summary will be published as provided if it meets these requirements and is germane to the subject matter of the investigation. The Commission will list the name of the organization furnishing the summary and will include a link to the Commission's Electronic Document Information System (EDIS) where the full written submission can be found.

By order of the Commission.
Issued: October 28, 2022.
Katherine Hiner,
Acting Secretary to the Commission.

[FR Doc. 2022-23856 Filed 11-2-22; 8:45 am]

BILLING CODE 7020-02-P